DEPARTMENT OF ENERGY

Federal Energy Regulatory Commission

[Docket No. CP02-387-000]

Petal Gas Storage, L.L.C.; Notice of Application

June 26, 2002.

Take notice that on June 18, 2002, Petal Gas Storage, L.L.C. (Petal), Nine Greenway Plaza, Houston, Texas 77046, filed in Docket No. CP02-387-000 , for an application pursuant to Section 7(c) of the Natural Gas Act (NGA) for authorization to construct, install, own, operate, and maintain new natural gas underground storage facilities, and related above-ground facilities, located in Forrest County, Mississippi, all as more fully set forth in the application which is on file with the Commission and open to public inspection. Copies of this filing are on file with the Commission and are available for public inspection. This filing may be viewed on the web at http://www.ferc.gov using the “RIMS” link, select “Docket #” from the RIMS Menu and follow the instructions (call (202) 208-2222 for assistance).

Petal seeks: (1) A certificate of public convenience and necessity that would authorize Petal to construct, install, own, operate, and maintain high-deliverability salt-dome gas storage facilities that will accommodate the injection, storage, and subsequent withdrawal of natural gas for redelivery in interstate commerce; (2) authorization to provide storage services at market-based rates; and (3) waiver of any Commission regulations necessary to grant the authorizations requested.

Petal proposes to construct and operate one new subsurface natural gas storage cavern (Cavern No. 8), and convert an existing subsurface brine storage cavern (Cavern No. 3) to natural gas storage. Both of these natural gas storage caverns are located adjacent to Petal's existing facilities within the Petal Salt Dome subsurface geologic feature, located in Forrest County, Mississippi.

In association with the construction of Cavern No. 8, Petal is proposing the construction of a 16-inch diameter natural gas pipeline approximately 1,276 feet long; a 12-inch diameter water line approximately 1,786 feet long; and a 12-inch diameter brine transmission line approximately 1,789 feet long. Petal also proposes to construct an additional 16-inch diameter natural gas transmission pipeline, approximately 2,407 feet in length, located between the Petal Cavern No. 3 wellhead and the existing Petal No. 2 Compressor Station. In addition, Petal proposes to construct fiber optics communications cables between both the Cavern No. 8 and Cavern No. 3 wellheads, and the existing Petal No. 2 Compressor Station, for remote operations of the proposed wellhead facilities.

Petal proposes to construct above-ground facilities. The above-ground facilities consist of: (1) A 5,000 horsepower natural gas compression unit on an existing concrete pad located within the Petal No. 2 Compressor Station building; (2) a 250 MMcf/d dehydration contractor, knockout scrubber, and gas/glycol exchanger to the existing Petal dehydration system, adjacent to the Petal No. 2 Compressor Station; and (3) a pressure control system at the Petal No. 2 Compressor Station to control the injection and withdrawal pressures between the station and Cavern No. 3 and Cavern No. 8.

Petal states that the proposed facilities will provide additional gas storage capacity to Petal's storage system, in response to significant increased demand from both existing and new customers for additional firm and interruptible storage services. Petal asserts that currently, all available gas storage space in Petal's existing caverns is fully subscribed.

Petal indicates that in order to accommodate these significant new market demands, Cavern No. 8 will be constructed with a working storage capacity of up to 5.0 Billion cubic feet (Bcf) and Cavern No. 3, once converted for natural gas storage, will have a working storage capacity of up to 3.0 Bcf. Petal states that upon completion of both caverns, the average daily withdrawal capacity for the entire Petal system (4 caverns) will be 1.65 Bcf/d and the daily average injection capacity will be 0.825 Bcf/d.

Any questions regarding this amendment should be directed to Thomas G. Joyce or Veronica Hill, El Paso Corporation, Nine Greenway Plaza, Houston, Texas 77046, at (832) 676-3295, or to J. Gordon Pennington, El Paso Corporation, 555 11th Street, NW, Suite 750, Washington, DC 20004, (202) 637-3544.

There are two ways to become involved in the Commission's review of this project. First, any person wishing to obtain legal status by becoming a party to the proceedings for this project should, on or before July 17, 2002, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

Linwood A. Watson, Jr.,
Deputy Secretary.

[FR Doc. 02-16609 Filed 6-1-02; 8:45 am]

BILLING CODE 6717-01-P